DEPARTMENT OF THE INTERIOR

Bureau of Land Management

[NM-030-1220-NLCS]

Emergency Closure to Unpermitted Collection of Petrified Wood and Plant Fossils in the Robledo Mountains on Federal Land, Dona Ana County, NM.

AGENCY: Bureau of Land Management (BLM), Interior.

ACTION: Notice.

SUMMARY: Notice is hereby given that certain public land located in the southern Robledo Mountains, Dona Ana County, New Mexico, is subject to an emergency closure to unpermitted collection (free use) of fossilized wood and plant fossils. This closure is necessary in order to prevent further adverse impacts to paleontological resources in the area while the formal conservation status of the region is under determination. Closure will remain in effect for 2 years and may be renewed upon the completion of the Tri-County Resource Management Plan. Closure signs will be posted at main entry points to this area. Maps of the closure area, as well as documents associated with environmental review of this closure may be obtained at the Las Cruces District Office.

DATES: This closure is effective upon publication in the Federal Register, and will remain in effect for two years from April 18, 2008. This closure may be renewed upon the completion of the Tri-County Resource Management Plan.

FOR FURTHER INFORMATION CONTACT: Tim Sanders, Assistant District Manager, Multi-Resources, 1800 Marquess Street, Las Cruces, New Mexico 88005, Telephone (575) 525-4393.

SUPPLEMENTARY INFORMATION: The area has been proposed as an Area of Critical Environmental Concern and also is under Congressional consideration for National Monument status. A management plan to address the long-term management of paleontological resources would be initiated upon designation. Resource damage has already taken place and the potential for additional adverse effects occurring as a result of unrestricted collection within this area is substantial and significant. The authorities for this closure may be found at 43 CFR Subpart 3622, and 43 CFR Subpart 8364. This order applies to all forms of collection of fossilized plant and petrified wood materials; all unpermitted collection or free use of fossilized plant and petrified wood materials in the location identified in this closure order is prohibited.

On all public land, under section 303(a) of the Federal Land Policy and Management Act of 1976 (FLPMA), 43 U.S.C. 1733(a), 43 CFR 8360.0-7, and 43 CFR 9262.1, any person who violates any closures or restriction on public land as announced in this order may be tried before a United States Magistrate and fined no more than $1,000.00 or imprisoned for no more that 12 months, or both. Such violations may also be subject to enhanced fines provided for by 18 U.S.C. 3571 (not to exceed $100,000.00 and/or imprisonment not to exceed 12 months).

The public land affected by the closure order is located northwest of Las Cruces, New Mexico, and west of Interstate-25, in Dona Ana County, New Mexico and is described as follows:

New Mexico Principal Meridian

T., 22 S., R. 1 W.,

Section 24

Section 25 and

Portions of Sections 13, 14, 15, 22, 23, 26, 35, 36.

T. 22 S., R. 1 E.,

Portions of Sections 19, 30, 31.

The area described contains approximately 5,240 acres, more or less, of the Robledo Mountain Range. Maps of the land affected by this closure, as well as documents associated with environmental review of the closure are available in the Las Cruces District Office, 1800 Marquess Street, Las Cruces, New Mexico. The area affected by this order will be posted with appropriate signs announcing this closure.

Authority: 43 CFR 3622.3(a), and 43 CFR 8364.1.

Bill Childress,
District Manager, Las Cruces.

[FR Doc. E8-8384 Filed 4-17-08; 8:45 am]

BILLING CODE 4310-FB-P